DEPARTMENT OF HEALTH AND HUMAN SERVICES

Centers for Disease Control and Prevention

[60Day-12-12HN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, at CDC, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of U.S. Family Planning Guidelines—New—National Center for Chronic Disease Prevention and Health Promotion (NCCDPHP), Centers for Disease Control and Prevention (CDC).

Background and Brief Description

The Centers for Disease Control and Prevention's (CDC) Division of Reproductive Health (DRH), in collaboration with the Office of Population Affairs (OPA), plans to conduct an evaluation of the diffusion, utilization of, and impact on provider- and clinic-level attitudes and practices of three national guidance documents. These guidelines, which are intended to improve contraceptive use and the delivery of quality family planning services in the United States, are: (1) The U.S. Medical Eligibility Criteria for Contraceptive Use (U.S. MEC); (2) the forthcoming U.S. Selected Practice Recommendations for Contraceptive Use (U.S. SPR); and (3) the forthcoming Guidelines for Providing Quality Family Planning Services (QFPS). The guidance documents have or will be widely disseminated to health-care providers and other constituents, via professional organizations, federal program grantees, scientific and programmatic meetings, scientific manuscripts, online resources, and other avenues, as deemed appropriate. The purpose of this information collection is to evaluate the adoption and implementation of recommendations included in the U.S. MEC, approximately two years after its release, and to collect baseline information on selected attitudes and practices that will be addressed in the forthcoming U.S. SPR and QFPS. The information to be collected will also allow CDC and OPA to improve family planning-related public health practice, as CDC and OPA will tailor future dissemination activities, and develop needed provider tools, based upon the results. CDC will consider conducting a follow-up information collection approximately three years after the baseline survey.

For the baseline information collection, CDC plans to administer a mailed survey to a sample of 13,125 private- and public-sector family planning providers and clinic administrators in the United States. Private-sector providers will be randomly selected from sampling frames with individual-level information on providers. To reach public-sector providers and clinic administrators, publicly funded clinics will be randomly selected; one provider and the clinic administrator will be asked to complete surveys at sampled clinics. Specifically, surveys will be completed by: (a) 3,125 private-sector office-based physicians (i.e., those specializing in obstetrics/gynecology, family medicine, and adolescent medicine), sampled from the American Medical Association Physician Masterfile; (b) 2,000 private-sector mid-level providers (i.e., nurse practitioners in women's health and certified nurse midwives), sampled from the Nurse Practitioners in Women's Health (NPWH) and the American College of Nurse Midwives (ACNM) membership lists; (c) 2,000 providers from Title X clinics, sampled from the Guttmacher Institute database of publicly funded family planning clinics; (d) 2,000 providers from non-Title X clinics, sampled from the Guttmacher Institute database of publicly funded family planning clinics; (e) 2,000 clinic administrators from Title X clinics, sampled from the Guttmacher Institute database of publicly funded family planning clinics; and (f) 2,000 clinic administrators from non-Title X clinics, sampled from the Guttmacher Institute database of publicly funded family planning clinics.

Each sampled provider and clinic will receive a mailed survey package. For private-sector family planning providers, each mailed survey package will include a single survey to be completed by the provider. For public-sector clinics, each mailed survey package will include two surveys—one to be completed by a randomly selected family planning provider at the clinic, and the second to be completed by the clinic administrator. Each mailed survey will be accompanied by a postage-paid return envelope. Individuals will also be given the option to complete the survey online via a password protected web-based data collection system. Participation in the survey will be completely voluntary. OMB approval is requested for one year.

There are no costs to respondents other than their time.

Estimated Annualized Burden Hours
Type of respondents | Form name | Number of respondents | Number of responses per respondent | Average burden per response (in hr) | Total burden (in hr)
Office-based physicians (private sector) | 2012 Survey of Provider Attitudes and Practices Surrounding Contraceptive Provision | 3,125 | 1 | 24/60 | 1,250
Mid-level providers (private sector) | 2012 Survey of Provider Attitudes and Practices Surrounding Contraceptive Provision | 2,000 | 1 | 24/60 | 800
Title X clinic providers (public sector) | 2012 Survey of Provider Attitudes and Practices Surrounding Contraceptive Provision | 2,000 | 1 | 24/60 | 800
Non-Title X publicly funded clinic providers (public sector) | 2012 Survey of Provider Attitudes and Practices Surrounding Contraceptive Provision | 2,000 | 1 | 24/60 | 800
Title X clinic administrators (public sector) | 2012 Survey for Administrators of Publicly Funded Family Planning Clinics | 2,000 | 1 | 24/60 | 800
Non-Title X publicly funded clinic administrators (public sector) | 2012 Survey for Administrators of Publicly Funded Family Planning Clinics | 2,000 | 1 | 24/60 | 800
Total |  |  |  |  | 5,250

Dated: April 3, 2012.
Ron A. Otten,
Director, Office of Scientific Integrity, Office of the Associate Director for Science (OADS), Office of the Director, Centers for Disease Control and Prevention.

[FR Doc. 2012-8448 Filed 4-6-12; 8:45 am]

BILLING CODE 4163-18-P